DEPARTMENT OF HEALTH AND HUMAN SERVICES

Centers for Disease Control and Prevention

[30Day-25-1365]

Agency Forms Undergoing Paperwork Reduction Act Review

In accordance with the Paperwork Reduction Act of 1995, the Centers for Disease Control and Prevention (CDC) has submitted the information collection request titled “Program Evaluation of CDC's Core State Injury Prevention Program” to the Office of Management and Budget (OMB) for review and approval. CDC previously published a “Proposed Data Collection Submitted for Public Comment and Recommendations” notice on September 20, 2024 to obtain comments from the public and affected agencies. CDC received one comment on the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Program Evaluation of CDC's Core State Injury Prevention Program (OMB Control No. 0920-1365, Exp. 7/31/2025)—Revision—National Center for Injury Prevention and Control (NCIPC), Centers for Disease Control and Prevention (CDC).

Background and Brief Description

This is a Revision request for the currently approved Program Evaluation of CDC's Core State Injury Prevention Program (OMB Control No. 0920-1365, Exp 7/31/2025). Approval is requested for an additional three years to continue collecting information from awardees funded under the Core State Injury Prevention Program cooperative agreement (CE21-2101), hereafter known as Core SIPP. The Core SIPP has added three new recipients to the program and is requesting a Revision to allow for data collection of these three new recipients.

Data collected up until this point has been used to inform technical assistance to recipients and programmatic decision-making. We have used this data to develop reports to show program impact on recipient capacity, public health actions, and continuous quality improvement. This information collected in this collection will continue to be used to:

(1) Evaluate and track outcomes at the recipient- and program-levels as they relate to injury prevention-focused infrastructure development, surveillance system development and use, and partnerships, to prevent Adverse Childhood Experiences (ACEs), Traumatic Brain Injury (TBI), and transportation-related injuries. Recipient-and program-level identification of disproportionately affected populations and subsequent public health actions taken to address injury-related health disparities will also be assessed.

(2) Identify technical assistance needs of individual recipients and this recipient cohort, so that the CDC team can appropriately deploy resources to support recipients.

(3) Identify practice-based evidence for injury prevention public health actions to advance the field through future partnerships, program design, and publications.

(4) Inform continuous quality improvement activities over the course of the funding period, to include quarterly and annual strategic planning for current and later iterations of this program under future funding.

Information is collected by CDC through the following modes to address the purposes identified above:

(1) The Core SIPP Implementation Capacity Development Rubric was implemented once at the start of program funding (baseline collection), and subsequently during the middle of each reporting year. Recipients self-administer the rubric via CDC's Partner Portal, where they self-score their state injury prevention programs according to their current level of capacity for components of interest. These scores are used to identify recipient strengths, areas for improvement, and additional needs for CDC TA support. Measuring recipient improvements in implementing public health actions in this standard way greatly increases the ability for CDC to measure the impact of the program investment. CDC aggregates these scores across recipients to identify larger program needs and to inform internal Continuous Quality Improvement (CQI) activities. This information is shared back with recipients individually during annual technical review calls, as well as in aggregate at annual partnership meetings. Additionally, increased capacity will increase the likelihood of sustainability beyond the funding cycle.

(2) Recipient-level Group Interviews will take place at the end of Program Years 3, 4 and 5. The purpose of these interviews is to evaluate progress and challenges in implementing the Core SIPP program within the individual recipient-level context to inform tailored supports from CDC and partners. The tailored support is in effort to facilitate solutions to programmatic barriers, adjust recipient strategies as needed, and ensure the quality of data reported annually to CDC.

(3) Economic Indicators are collected to better understand the cost of IVP implementation by strategy as well as how recipients have leveraged funds and resources to increased sustainability for injury and violence prevention work.

(4) Injury Indicator Spreadsheets and Special Emphasis Reports are collected annually to track state level injury and violence morbidity and mortality data. This allows CDC to measure trends over time within a state, across states, and against the national average to identify changes during the Core SIPP funding period. Completion of the spreadsheets and reports ensures recipient surveillance capacity and reporting is in alignment with best practices.

CDC requests OMB approval for an estimated 764 annual burden hours. There is no cost to respondents other than their time to participate.

Estimated Annualized Burden Hours
Type of respondents | Form name | Number of respondents | Number of responses per respondent | Average burden per response (in hours)
Core SIPP Program Awardees | Implementation Capacity Rubric | 26 | 1 | 2
| Economic Indicators | 23 | 1 | 1
| Recipient-level Group Interviews | 26 | 1 | 1.5
| Injury Indicators Spreadsheet | 26 | 1 | 5
| Emergency Department Injury Indicators Spreadsheet | 26 | 1 | 5
| Hospital Discharge Injury Indicators Spreadsheet | 26 | 1 | 5
| Special Emphasis Reports | 26 | 1 | 10

Jeffrey M. Zirger,
Lead, Information Collection Review Office, Office of Public Health Ethics and Regulations, Office of Science, Centers for Disease Control and Prevention.

[FR Doc. 2025-10511 Filed 6-10-25; 8:45 am]

BILLING CODE 4163-18-P